LEGAL SERVICES CORPORATION

Notice of Solicitation of Proposals for Calendar Year 2018 Basic Field Grant Awards

AGENCY: Legal Services Corporation.

ACTION: Solicitation of proposals for the provision of civil legal services.

SUMMARY: The Legal Services Corporation (LSC) is a federally established and funded organization that funds civil legal aid organizations across the country and in the U.S. territories. Its mission is to expand access to justice by funding high-quality legal representation for low-income people in civil matters.

In anticipation of a congressional appropriation to LSC for Fiscal Year 2018, LSC hereby announces that it is reopening the basic field grants solicitation for calendar year 2018 funding for service area GU-1 in Guam. LSC is soliciting grant proposals from interested parties who are qualified to provide effective, efficient and high quality civil legal services to the eligible client population living in Guam.

The availability and the exact amount of congressionally appropriated funds, as well as the date, terms, and conditions of funds available for grants for calendar year 2018, have not been determined. LSC anticipates that the funding amount will be similar to current funding, which is $242,838.

DATES: See the SUPPLEMENTARY INFORMATION section for the dates of the grants process.

ADDRESSES: Legal Services Corporation—Notice of Funds Availability, 3333 K Street NW, Third Floor, Washington, DC 20007-3522.

FOR FURTHER INFORMATION CONTACT: The Office of Program Performance by email at lscgrants@lsc.gov, or visit the LSC website at http://www.lsc.gov/grants-grantee-resources/our-grant-programs/basic-field-grant/lsc-service-areas.

SUPPLEMENTARY INFORMATION: The Request for Proposals (RFP) containing the Notice of Intent to Compete (NIC) and grant application guidelines, proposal content requirements, service area description, and selection criteria, is currently available from https://www.lsc.gov/grants-grantee-resources/our-grant-programs/basic-field-grant. Applicants are required to use the “LSC 2018 Request for Proposals” narrative instructions to prepare the grant proposal. Applicants must file a NIC to participate in this grants process. Applicants must file the NIC by January 31, 2018, 5:00 p.m. E.T. Applicants must submit their grant proposal and complete the LSC Fiscal Grantee Funding Application (FGFA) by February 28, 2018, 5:00 p.m. E.T. The dates in this notice supersede the dates contained in the RFP. Applicants should access and complete the grant application and FGFA at https://lscgrants.lsc.gov/EasyGrants_Web_LSC/Implementation/Modules/Login/LoginModuleContent.aspx?Config=LoginModuleConfig&Page=Login.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

LSC will post all updates and/or changes to this notice at https://www.lsc.gov/grants-grantee-resources/our-grant-programs. Interested parties are asked to visit https://www.lsc.gov/grants-grantee-resources/our-grant-programs regularly for updates on the LSC grants process.

Dated: December 21, 2017.
Stefanie K. Davis,
Assistant General Counsel.

[FR Doc. 2017-27864 Filed 12-26-17; 8:45 am]

BILLING CODE 7050-01-P